DEPARTMENT OF EDUCATION

Applications for New Awards; Migrant Education Program (MEP) Consortium Incentive Grants Program

AGENCY: Office of Elementary and Secondary Education, Department of Education.

ACTION: Notice.

Overview Information:

Migrant Education Program (MEP) Consortium Incentive Grants Program;

Notice inviting applications for new awards for fiscal year (FY) 2012.

Catalog of Federal Domestic Assistance (CFDA) Number: 84.144F.

Dates:

Applications Available: February 28, 2012.

Deadline for Transmittal of Applications: May 4, 2012.

Deadline for Intergovernmental Review: July 6, 2012.

Full Text of Announcement

I. Funding Opportunity Description

Purpose of Program: The purpose of the MEP Consortium Incentive Grants program is to provide incentive grants to State educational agencies (SEAs) that participate in consortia with one or more other SEAs or other appropriate entities to improve the delivery of services to migrant children whose education is interrupted. Through this program, the Department provides financial incentives to SEAs to participate in consortia to improve the intrastate and interstate coordination of migrant education programs by addressing key needs of migratory children who have their education interrupted.

Priorities: These priorities are from the notice of final requirements for this program, published in the Federal Register on March 3, 2004 (69 FR 10110), and from the notice of final priority, published in the Federal Register on March 12, 2008 (73 FR 13217).

Absolute Priorities: For FY 2012, these priorities are absolute priorities. Under 34 CFR 75.105(c)(3), we consider only applications that meet one or more of these absolute priorities. In order for an SEA to be considered for an incentive grant, an application from a proposed consortium in which the SEA would participate must address one or more of the following absolute priorities:

Priority 1: Services designed to improve the proper and timely identification and recruitment of eligible migratory children whose education is interrupted.

Priority 2: Services designed (based on a review of scientifically based research) to improve the school readiness of preschool-aged migratory children whose education is interrupted.

Priority 3: Services designed (based on a review of scientifically based research) to improve the reading proficiency of migratory children whose education is interrupted.

Priority 4: Services designed (based on a review of scientifically based research) to improve the mathematics proficiency of migratory children whose education is interrupted.

Priority 5: Services designed (based on a review of scientifically based research) to decrease the dropout rate of migratory students whose education is interrupted and improve their high school completion rate.

Priority 6: Services designed (based on a review of scientifically based research) to strengthen the involvement of migratory parents in the education of migratory students whose education is interrupted.

Priority 7: Services designed (based on a review of scientifically based research) to expand access to innovative educational technologies intended to increase the academic achievement of migratory students whose education is interrupted.

Priority 8: Services designed (based on review of scientifically based research) to improve the educational attainment of out-of-school migratory youth whose education is interrupted.

Program Authority: 20 U.S.C. 6398(d).

Applicable Regulations: (a) The Education Department General Administrative Regulations (EDGAR) in 34 CFR parts 75 (except 75.232), 76, 77, 79, 80 (except 80.40(b)), 82, 84, 85, and 99; (b) the notice of final requirements published in the Federal Register on March 3, 2004 (69 FR 10110); and (c) the notice of final priority published in the Federal Register on March 12, 2008 (73 FR 13217).

Note: The regulations in 34 CFR part 79 apply to all applicants except federally recognized Indian tribes.

II. Award Information

Type of Award: Formula grants.

Estimated Available Funds: $3,000,000.

Estimated Range of Awards: $50,000-$150,000.

Estimated Average Size of Awards: $64,000.

Maximum Award: By statute, the maximum amount that we may award under this program is $250,000.

Estimated Number of Awards: 47.

Note: The Department is not bound by any estimates in this notice.

Project Period: Up to 24 months.

III. Eligibility Information

1. Eligible Applicants: State educational agencies (SEAs) receiving MEP Basic State Formula grants, in consortium with one or more other SEAs or appropriate entities.

2. a. Cost Sharing or Matching: This program does not require cost sharing or matching.

b. Supplement-Not-Supplant: This program involves supplement-not-supplant funding requirements. Pursuant to the notice of final requirements published in the Federal Register on March 3, 2004 (69 FR 10110), the supplement-not-supplant provisions in sections 1120A(b) and 1304(c)(2) of the Elementary and Secondary Education Act of 1965, as amended, are applicable to this program.

IV. Application and Submission Information

1. Address to Request Application Package: Michelle Moreno, U.S. Department of Education, 400 Maryland Avenue SW., Room 3E325, LBJ, Washington, DC 20202-6135. Telephone: (202) 401-2928, or by email: michelle.moreno@ed.gov.

If you use a telecommunications device for the deaf (TDD) or a text telephone (TTY), call the Federal Relay Service (FRS), toll free, at 1-800-877-8339. Individuals with disabilities can obtain a copy of the application package in an accessible format (e.g., Braille, large print, audiotape, or compact disc) by contacting the program contact person listed in this section.

2. Content and Form of Application Submission: Requirements concerning the content of an application, together with the forms an applicant must submit, are in the application package for this program.

Page Limit: Part IV of the application is where you, the applicant, describe the proposed consortium and include the Part IV Summary Chart (this chart is explained in the application package). Your description of the proposed consortium must include how the consortium's proposed project meets (1) the Application Requirements listed in the notice of final requirements published in the Federal Register on March 3, 2004 (69 FR 10110) and in the notice of final priority published in the Federal Register on March 12, 2008 (73 FR 13217), (2) one or more of the absolute priorities, and (3) the selection criteria that reviewers use to evaluate your application. You must limit Part IV to no more than 30 double-spaced pages, using the standards in the following paragraphs. Please note that the Summary Chart does not count as part of Part IV for purposes of the page limit.

• A “page” is 8.5″ x 11″ , on one side only, with 1” margins at the top, bottom and both sides.

• Double space (no more than three lines per vertical inch) all text in the application narrative, including titles, headings, footnotes, quotations, references, and captions, as well as all text in charts, tables, figures, and graphs.

• Use a font that is either 12-point or larger or no smaller than 10 pitch (characters per inch).

• Use one of the following fonts: Times New Roman, Courier, Courier New, or Arial. An application submitted in any other font (including Times Roman or Arial Narrow) will not be accepted.

• For charts, tables, and graphs, use a font that is either 12-point or larger or no smaller than 10 pitch.

The page limit does not apply to the Part IV Summary Chart, Parts I through III, or Parts V through VII, or to any appendices, resumes, bibliography, or letters of support. However, the page limit does apply to the description of the proposed consortium in Part IV of the application.

Department reviewers will not read any pages of the Part IV narrative that exceed the page limit.

3. Submission Date and Times:

Applications Available: February 28, 2012.

Deadline for Transmittal of Applications: May 4, 2012.

Applications for grants under this program must be submitted in paper format by mail or by hand delivery. For information (including dates and times) about how to submit your application by mail or by hand delivery, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: July 6, 2012.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section in this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this competition must be submitted in paper format by mail or hand delivery.

a. Submission of Paper Applications by Mail.

If you submit your application by mail (through the U.S. Postal Service or a commercial carrier), you must mail the original and two copies of your application, on or before the application deadline date, to the Department at the following address: U.S. Department of Education, Application Control Center, Attention (CFDA Number 84.144F) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

b. Submission of Paper Applications by Hand Delivery.

If you submit your application by hand delivery, you (or a courier service) must deliver the original and two copies of your application by hand, on or before the application deadline date, to the Department at the following address: U.S. Department of Education, Application Control Center, Attention: (CFDA Number 84.144F) 550 12st Street SW., Room 7041, Potomac Center Plaza, Washington, DC 20202-4260.

Note: A person delivering an application must show identification to enter the U.S. Department of Education building.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your consortium application is successful, the Department will notify your U.S. Representative and U.S. Senators and send you a Grant Award Notice (GAN). The Department will also notify Congress regarding grant awards. We may notify you informally, also.

If an application is not evaluated or not selected for funding, the Department will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Grant recipients under this program must submit the annual and final performance and financial reports specified in the notice of final requirements for this grant program published in the Federal Register on March 3, 2004 (69 FR 10110).

4. Performance Measures: Consortium grantees are required to report on their project's effectiveness based on the project objectives, performance measures and scheduled activities outlined in the consortium's application.

In addition, all grantees are required, under 34 CFR 80.40(b), to report on the Government Performance and Results Act (GPRA) indicators as part of their Consolidated State Performance Report. The GPRA indicators established by the Department for the Migrant Education Program, of which the Consortium Incentive Grants are a component, are:

a. The percentage of migrant students at the elementary school level who meet or exceed the proficient level on State assessments in reading.

b. The percentage of migrant students at the middle school level who meet or exceed the proficient level on State assessments in reading.

c. The percentage of migrant students at the elementary school level who meet or exceed the proficient level on State assessments in mathematics.

d. The percentage of migrant students at the middle school level who meet or exceed the proficient level on State assessments in mathematics.

e. The percentage of migrant students who drop out from secondary school (grades 7-12).

f. The percentage of migrant students who graduate from high school.

VII. Agency Contact

For Further Information Contact: Michelle Moreno, U.S. Department of Education, 400 Maryland Avenue SW., Room 3E325, LBJ, Washington, DC 20202-6135. Telephone: (202) 401-2928, or by email: michelle.moreno@ed.gov.

If you use a TDD or a TTY, call the FRS, toll free, at 1-800-877-8339.

VIII. Other Information

Accessible Format: Individuals with disabilities may obtain this document and a copy of the application package in an accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 23, 2012.
Michael Yudin,
Acting Assistant Secretary for Elementary and Secondary Education.

[FR Doc. 2012-4707 Filed 2-27-12; 8:45 am]

BILLING CODE 4000-01-P